DEPARTMENT OF JUSTICE

Antitrust Division

Notice Pursuant to the National Cooperative Research and Production Act of 1993—MLCommons Association

Notice is hereby given that, on August 5, 2025, pursuant to section 6(a) of the National Cooperative Research and Production Act of 1993, 15 U.S.C. 4301 et seq. (“the Act”), MLCommons Association (“MLCommons”) filed written notifications simultaneously with the Attorney General and the Federal Trade Commission disclosing changes in its membership. The notifications were filed for the purpose of extending the Act's provisions limiting the recovery of antitrust plaintiffs to actual damages under specified circumstances. Specifically, Vasilios Mavroudis (Individual Member), London, UNITED KINGDOM; Hyeseon Jang (Individual Member), Seoul, REPUBLIC OF KOREA; Carl Ehrett (Individual Member), Clemson, SC; Aman Shukla (Individual Member), Washington, DC; RooGen AI, San Jose, CA; Hiroki Naganuma (Individual Member), Ottawa, CANADA; Amitash Nanda (Individual Member), San Diego, CA; Florian Kofler (Individual Member), Zurich, SWISS CONFEDERATION; University of Florida, Information Technology Research Computing, Gainesville, FL; Aqora, Paris, FRENCH REPUBLIC; Anjali Jain (Individual Member), Bellevue, WA; Zaki Hakim (Individual Member), Toronto, CANADA; Raghav Sharma (Individual Member), Atlanta, GA; Sai Yaaminie Ganda (Individual Member), San Jose, CA; Sahil Verma (Individual Member), Seattle, WA; Kinchit Technologies, Inc., Bangalore, REPUBLIC OF INDIA; Vamshi Ambati (Individual Member), Pleasanton, CA; David Rivkin (Individual Member), Glasgow, UNITED KINGDOM; Gulcin Gedik (Individual Member), Dresden, FEDERAL REPUBLIC OF GERMANY; The Stage AI, Dover, DE; Thrace Systems LLC, San Jose, CA; Blue Fusion, Natick, MA; and Netweb Technologies India Ltd, Faridabad, REPUBLIC OF INDIA have been added as parties to this venture.

Also, Moffett AI Technology Shenzhen Co., Ltd., Los Altos, CA has withdrawn as a party to this venture.

No other changes have been made in either the membership or planned activity of the group research project. Membership in this group research project remains open and MLCommons intends to file additional written notifications disclosing all changes in membership.

On September 15, 2020, MLCommons filed its original notification pursuant to section 6(a) of the Act. The Department of Justice published a notice in the Federal Register pursuant to section 6(b) of the Act on September 29, 2020 (85 FR 61032).

The last notification was filed with the Department on May 16, 2025. A notice was published in the Federal Register pursuant to section 6(b) of the Act on June 11, 2025 (90 FR 24670).

Suzanne Morris,
Deputy Director Civil Enforcement Operations, Antitrust Division.

[FR Doc. 2025-15684 Filed 8-15-25; 8:45 am]

BILLING CODE P